DEPARTMENT OF THE TREASURY

Internal Revenue Service

Open Meeting of the Area 6 Committee of the Taxpayer Advocacy Panel (Including the States of Arizona, Colorado, Idaho, Montana, New Mexico, North Dakota, Oregon, South Dakota, Utah, Washington and Wyoming); Correction

AGENCY: Internal Revenue Service (IRS), Treasury.

ACTION: Correction to notice of an open meeting.

SUMMARY: This document contains a correction to a notice of an open meeting which was published in the Federal Register on Tuesday, June 28, 2005 (70 FR 37151). This notice relates to the Taxpayer Advocacy Panel's solicitation of public comments, ideas, and suggestions on improving customer service at the Internal Revenue Service. The TAP will use citizen input to make recommendations to the Internal Revenue Service.

FOR FURTHER INFORMATION CONTACT: Dave Coffman at 1-888-912-1227, or 206-220-6096.

SUPPLEMENTARY INFORMATION:

Background

The notice of an open meeting that is the subject of this correction is under section 10(a)(2) of the Federal Advisory Committee Act, 5 U.S.C. App. (1988).

Need for Correction

As published, the notice of an open meeting contains an error that may prove to be misleading and is need of clarification.

Correction of Publication

Accordingly, the publication of the open meeting of the Area 6 committee of the Taxpayer Advocacy Panel, which was the subject of FR Doc. E53365, is corrected as follows:

On page 37151, column 3, under the caption, “SUPPLMENTARY INFORMATION:” line 8, the language “Pacific time to 9:30 p.m. Pacific time via” is corrected to read “Pacific time to 9:30 a.m. Pacific time via”.

Guy R. Traynor,
Federal Register Liaison, Publications and Regulations Branch, Legal Processing Division, Associate Chief Counsel (Procedures and Administration).

[FR Doc. E5-3585 Filed 7-6-05; 8:45 am]

BILLING CODE 4830-01-P